DEPARTMENT OF ENERGY

Federal Energy Regulatory Commission

Notice of Effectiveness of Exempt Wholesale Generator Status

| Docket Nos.
Solano 3 Wind LLC | EG12-36-000
Atlantic Power (Coastal Rivers) Corporation | EG12-37-000
Atlantic Power (Williams Lake) Ltd | EG12-38-000
Atlantic Power Preferred Equity, Ltd | EG12-39-000
Atlantic Power Limited Partnership | EG12-40-000
Magic Valley Wind Farm I, LLC | EG12-41-000
Wildcat Wind Farm I, LLC | EG12-42-000
Diamond State Generation Partners, LLC | EG12-44-000
Palouse Wind, LLC | EG12-45-000
Silver State Solar Power North, LLC | EG12-46-000
Wellhead Power Delano, LLC | EG12-47-000
Ensign Wind, LLC | EG12-48-000
Tuscola Bay Wind, LLC | EG12-49-000
Minco Wind III, LLC | EG12-50-000
Alta Wind VII, LLC | EG12-51-000
Alta Wind IX, LLC | EG12-52-000

Take notice that during the month of May 2012, the status of the above-captioned entities as Exempt Wholesale Generators became effective by operation of the Commission's regulations. 18 CFR 366.7(a).

Dated: June 12, 2012.
Kimberly D. Bose,
Secretary.

[FR Doc. 2012-14986 Filed 6-19-12; 8:45 am]

BILLING CODE 6717-01-P